DEPARTMENT OF COMMERCE

National Oceanic and Atmospheric Administration

RIN 0648-XD700

New England Fishery Management Council; Public Meeting

AGENCY: National Marine Fisheries Service (NMFS), National Oceanic and Atmospheric Administration (NOAA), Commerce.

ACTION: Notice of public meeting.

SUMMARY: The New England Fishery Management Council (Council) will hold a 3-day meeting on January 27-29, 2015 to consider actions affecting New England fisheries in the exclusive economic zone (EEZ).

DATES: The meeting will be held on Tuesday, January 27, 2015 through Thursday, January 29, 2015, starting at 9:30 a.m. on Tuesday, January 27; and 8:30 a.m. on Wednesday and Thursday, January 28 and 29.

ADDRESSES: The meeting will be held at the Sheraton Harborside Hotel, 250 Market Street, Portsmouth, NH 03801; telephone: (603) 431-2300; fax: (603) 431-7805. For online information see www.sheratonportsmouth.com/.

Council Address: New England Fishery Management Council, 50 Water Street, Mill 2, Newburyport, MA 01950; telephone: (978) 465-0492.

FOR FURTHER INFORMATION CONTACT: Thomas A. Nies, Executive Director, New England Fishery Management Council; telephone: (978) 465-0492.

SUPPLEMENTARY INFORMATION:

Tuesday, January 27, 2015

The Council meeting will begin with introductions and brief reports from the NEFMC Chairman and Executive Director (to include a review and approval of an updated version of the Council's Statement of Organization, Practices, and Procedures), the NOAA Fisheries Regional Administrator, the Northeast Fisheries Science Center and Mid-Atlantic Fishery Management Council liaisons, NOAA General Counsel and NOAA Law Enforcement, and representatives of the Atlantic States Marine Fisheries Commission (ASMFC), U.S. Coast Guard and the Northeast Regional Ocean Council. A brief closed session will follow during which the Council will approve Scientific and Statistical Committee appointments for 2015-17. The Council will then provide an opportunity for the public to provide brief comments on items that are relevant to Council business but otherwise not listed on the published agenda.

During the afternoon session, the Council expects to discuss and determine an appropriate level of Council participation with ASFMC during the development of management measures for the Jonah Crab fishery in the EEZ. The Atlantic Coastal Cooperative Statistics Program staff (ACCSP) will provide an overview of its integrated data collection and distribution systems that are conducted in partnership with NOAA Fisheries, including dealer data collection and vessel trip reporting. During the a discussion of measures that will address recreational groundfish fishery activities, the Council will discuss recommendations for proactive accountability measures for Gulf of Maine haddock and Gulf of Maine cod for fishing year 2015. The day will close with a report, the Performance of the Northeast Multispecies Groundfish Fishery, May 2013-April 2014 to be presented by Northeast Fisheries Science Center staff.

Wednesday, January 28, 2015

The NEFMC Herring Committee will ask the Council to cover several issues that will continue until after the lunch break. They are as follows: (1) An update on the industry-based river herring bycatch avoidance program; (2) an update on the River Herring Technical Expert Working Group process, its timeline, and products; (3) a review of the NEFMC staff discussion document that addresses considerations related to adding river herring and shad as stocks in the Atlantic herring fishery; and (4) consideration and possible approval of related Herring Committee recommendations. The recommendations address cooperative research priorities for any research set-aside that may be allocated in 2016-18 during the Atlantic herring fishery specifications process; and approval of a scoping document for an amendment to the Atlantic Herring Fishery Management Plan that will address control rules for the Atlantic herring fishery to account for herring's role as forage in the ecosystem. During the remainder of the afternoon the Council's Observer Policy Committee will request that the Council review and approve a Draft Environmental Assessment for an omnibus amendment that could establish provisions for industry-funded monitoring (IFM) across all federally-managed fisheries in the Northeast. Related recommendations provided by the both the Observer Policy and Herring Committees will be considered. It is also expected that the Council will select preferred alternatives as well as options proposed to address observer coverage requirements for Atlantic herring vessels.

Thursday, January 29, 2015

During the final day of the meeting the Council will focus on three reports. During the first, there will be an overview of the 2014 independent evaluation of the Northeast Fisheries Science Center's processes and modeling approaches used to develop stock assessments. This will be followed by a briefing on NOAA Fisheries Draft Climate Science Strategy. The last will be an update on the annual state of the Northeast Continental Shelf ecosystem.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: January 6, 2015.
Tracey L. Thompson,
Acting Deputy Director, Office of Sustainable Fisheries, National Marine Fisheries Service.

[FR Doc. 2015-00147 Filed 1-8-15; 8:45 am]

BILLING CODE 3510-22-P